DEPARTMENT OF THE INTERIOR

Fish and Wildlife Service

DEPARTMENT OF COMMERCE

National Oceanic and Atmospheric Administration

[Docket No. FWS-R9-ES-2011-0031; FXES11130900000C6-123—FF09E32000; DOC Docket No. 110131072-1277-01]

RIN 1018-AX49; 0648-BA78

Draft Policy on Interpretation of the Phrase “Significant Portion of Its Range” in the Endangered Species Act's Definitions of “Endangered Species” and “Threatened Species”

AGENCIES: Fish and Wildlife Service, Interior; National Marine Fisheries Service, NOAA, Commerce.

ACTION: Notice of extension of public comment period.

SUMMARY: We, the United States Fish and Wildlife Service (FWS) and the National Marine Fisheries Service (NMFS) (collectively, the Services), announce a 30-day extension of the period for submission of public comments on the draft policy interpreting the phrase “significant portion of its range” in the Endangered Species Act's (Act's) definitions of “endangered species” and “threatened species.” We encourage all interested parties to provide us with information and comments regarding the draft policy. Information previously submitted does not need to be resubmitted, and will be incorporated into the public record and fully considered in our development of a final policy.

DATES: We will consider comments and information we receive from all interested parties on or before March 8, 2012.

ADDRESSES: You may submit comments by one of the following methods:

• Federal eRulemaking Portal: http://www.regulations.gov. Follow the instructions for submitting comments on docket number FWS-R9-ES-2011-0031.

• U.S. mail or hand delivery: Public Comments Processing, Attn: FWS-R9-ES-2011-0031; Division of Policy and Directives Management; U.S. Fish and Wildlife Service; 4401 North Fairfax Drive, MS 2042; Arlington, VA 22203.

We will post all comments on http://www.regulations.gov. This generally means that we will post any personal information you provide us (see Public Comments section below for more information).

FOR FURTHER INFORMATION CONTACT: Rick Sayers, U.S. Fish and Wildlife Service, Endangered Species Program, 4401 North Fairfax Drive, Room 420, Arlington, VA 22203; telephone (703) 358-2171; facsimile (703) 358-1735; or Marta Nammack, National Marine Fisheries Service, Office of Protected Resources, 1315 East-West Highway, Silver Spring, MD 20910; telephone (301) 427-8469); fax (301) 713-0376). If you use a telecommunications device for the deaf (TDD), call the Federal Information Relay Service (FIRS) at (800) 877-8339.

SUPPLEMENTARY INFORMATION: On December 9, 2011, we published a notice of our draft policy (76 FR 76987) to establish a joint interpretation and application of “significant portion of its range” that reflects a permissible reading of the law and its legislative history and minimizes undesirable policy outcomes, while fulfilling the conservation purposes of the Act. That notice established a 60-day comment period ending February 7, 2012. We have received a number of requests to extend the public comment period. Considering the complexity of the issues addressed in the draft policy and the level of public interest, we have decided that additional time for public comment will be particularly valuable for this action and thus are extending the comment period for an additional 30 days. The draft policy and supporting materials are available for review at http://www.regulations.gov under Docket No. FWS-R9-ES-2011-0031.

Public Comments; Request for Information

We intend that the final policy on interpretation of the phrase “significant portion of its range” in the Act's definitions of “endangered species” and “threatened species” will consider information and recommendations from all interested parties. We therefore solicit comments, information, and recommendations from governmental agencies, Native American tribes, the scientific community, industry groups, environmental interest groups, and any other interested parties. All comments and materials received by the date listed in the DATES section above will be considered prior to the approval of a final document. For the complete list of subjects on which we seek comments, please refer to the December 9, 2011, draft policy (76 FR 76987), available on line at http://www.regulations.gov under Docket No. FWS-R9-ES-2011-0031.

Please include sufficient information with your submission (such as references to scientific journal articles or other publications) to allow us to verify any scientific or commercial information you include.

You may submit your information concerning this draft policy by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation used in preparing this document is available for you to review at http://www.regulations.gov, or you may make an appointment during normal business hours at the U.S. Fish and Wildlife Service, Endangered Species Program (see FOR FURTHER INFORMATION CONTACT).

Authority

We are taking this action under the authority of the Endangered Species Act of 1973, as amended (16 U.S.C. 1531 et seq.).

Dated: January 30, 2012.
Daniel M. Ashe,
Director, Fish and Wildlife Service.
Dated: January 27, 2012.
Alan D. Risenhoover,
Acting Deputy Assistant Administrator for Regulatory Programs, National Marine Fisheries Service.

[FR Doc. 2012-2667 Filed 2-6-12; 8:45 am]

BILLING CODE 4310-55-P